DEPARTMENT OF TRANSPORTATION

Federal Motor Carrier Safety Administration

[Docket No. FMCSA-2022-0133]

Agency Information Collection Activities; Renewal of an Approved Information Collection: 391.41 CMV Driver Medication Form

AGENCY: Federal Motor Carrier Safety Administration (FMCSA), Department of Transportation (DOT).

ACTION: Notice and request for comments.

SUMMARY: In accordance with the Paperwork Reduction Act of 1995, FMCSA announces its plan to submit the renewal Information Collection Request (ICR) described below to the Office of Management and Budget (OMB) for review and approval and invites public comment. FMCSA requests approval to renew an ICR titled, “391.41 CMV Driver Medication Form.” This Information Collection (IC) is voluntary and may be utilized by Medical Examiners (MEs) responsible for issuing Medical Examiner's Certificates (MECs) to commercial motor vehicle (CMV) drivers. MEs that choose to use this IC do so to communicate with treating healthcare professionals who are responsible for prescribing certain medications, so that the ME fully understands the reasons the medications have been prescribed. The information obtained by the ME when utilizing this IC assists the ME in determining if the driver is medically qualified and ensures that there are no disqualifying medical conditions or underlying medical conditions and prescribed medications that could adversely affect their safe driving ability or cause incapacitation constituting a risk to the public. FMCSA received one comment in response to the Federal Register notice published on September 8, 2022.

DATES: Comments on this notice must be received on or before March 6, 2023.

ADDRESSES: Written comments and recommendations for the proposed IC should be sent within 30 days of publication of this notice to www.reginfo.gov/public/do/PRAMain. Find this information collection by selecting “Currently under 30-day Review—Open for Public Comments” or by using the search function.

FOR FURTHER INFORMATION CONTACT: Ms. Christine A. Hydock, Medical Programs Division, DOT, FMCSA, West Building 6th Floor, 1200 New Jersey Avenue SE, Washington, DC 20590-0001; (202) 366-0421; christine.hydock@dot.gov.

SUPPLEMENTARY INFORMATION:

Title: 391.41 CMV Driver Medication Form.

OMB Control Number: 2126-0064.

Type of Request: Renewal of a currently approved collection.

Respondents: Prescribing healthcare professionals.

Estimated Number of Respondents: Up to 1,163,160 (total number of prescribing healthcare providers in the U.S.).

Estimated Time per Response: 8 minutes.

Expiration Date: April 30, 2023.

Frequency of Response: Other (use of this IC is optional so there is no required collection frequency).

Estimated Total Annual Burden: 279,465 hours.

Background

FMCSA's primary mission is to reduce crashes, injuries, and fatalities involving large trucks and buses. The Secretary of Transportation has delegated to FMCSA its responsibility under 49 U.S.C. 31136 and 31502 to prescribe regulations that ensure CMVs are operated safely. As part of this mission, the Agency's Medical Programs Division works to ensure that CMV drivers engaged in interstate commerce are physically qualified and able to safely perform their work.

The public interest in, and right to have, safe highways requires the assurance that drivers of CMVs can safely perform the increased physical and mental demands of their duties. FMCSA's physical qualification standards provide this assurance by requiring drivers to be examined and medically certified as physically and mentally qualified to drive.

The purpose for this voluntary IC is to assist the ME in determining if the driver is medically qualified under § 391.41 and to ensure that there are no disqualifying medical conditions that could adversely affect their safe driving ability or cause incapacitation constituting a risk to the public. Under § 391.41(b)(12), a person is physically qualified to drive a CMV if that person does not use any drug or substance identified in 21 CFR 1308.11 Schedule I, an amphetamine, a narcotic, or other habit-forming drug; and does not use any non-Schedule I drug or substance that is identified in the other Schedules in 21 CFR part 1308 except when the use is prescribed by a licensed medical practitioner, as defined in § 382.107, who is familiar with the driver's medical history and has advised the driver that the substance will not adversely affect the driver's ability to safely operate a CMV.

The use of this IC is at the discretion of the ME and facilitates communication with treating healthcare professionals who are responsible for prescribing certain medications so that the ME fully understands the reasons the medications have been prescribed. This information assists the ME in determining whether the underlying medical condition and the prescribed medication will impact the driver's safe operation of a CMV. Therefore, there is no required collection frequency.

The “391.41 CMV Driver Medication Form, MCSA-5895,” may be downloaded from the FMCSA website. Prescribing healthcare providers are also able to fax or scan and email the report to the certified ME. Consistent with OMB's commitment to minimizing respondents' recordkeeping and paperwork burdens and the increased use of secure electronic modes of communication, the Agency believes that approximately 50 percent of the “391.41 CMV Driver Medication Forms, MCSA-5895,” are transmitted electronically.

The information collected from the “391.41 CMV Driver Medication Form, MCSA-5895,” is used by the certified ME that requested the completion of the form. The “391.41 CMV Driver Medication Form, MCSA-5895,” is attached to the “Medical Examination Report Form, MCSA-5875,” which becomes part of the CMV driver's record maintained by the certified ME. The information is not available to the public. The Federal Motor Carrier Safety Regulations covering driver physical qualification records are found at § 391.43, which specify that a medical examination be performed on CMV drivers subject to part 391 who operate in interstate commerce. The results of the examination must be recorded in accordance with the requirements set forth in that section. MEs are required to maintain records of the CMV driver medical examinations they conduct.

Discussion of Comment Received

FMCSA received one comment from the National Transportation Safety Board (NTSB) in response to the 60-day Federal Register notice published on September 8, 2022 (87 FR 55077). The NTSB's comments are outlined below, along with FMCSA's response.

The NTSB supports the renewal of the IC, but suggested FMCSA revise the IC to make it a significantly more effective evaluation tool. It specifically recommended the following:

• Revise the “391.41 CMV Driver Medication Form, MCSA-5895,” to include all medications (prescriptions, non-prescriptions, supplements) that the provider is aware the driver uses and all medical conditions that the provider is aware the driver has, regardless of whether those conditions are treated with medications.

• Do not limit the IC to cases with known potentially impairing medications by removing the sentence on the form that states, “During the medical evaluation, it was determined this individual is taking medication(s) that may impair his/her ability to safely operate a CMV.”

• Clarify what is being asked of responding providers by removing all reference to regulations from the instructions and clarifying that the responding provider is expected only to list medications/medical conditions and to give a medical opinion on safety, not to apply medical certification standards, which is the responsibility solely of the ME.

• Enable responding providers to give complete medical opinions by revising item 4 to ask the responding provider's medical opinion about whether any of the driver's known medications or medical conditions pose a risk to safe CMV operation, to provide the item with a third response option (“yes/no/unsure”), and to include a field for any clarifying comments.

FMCSA Response

FMCSA considered the NTSB's comments but does not believe its recommendations would enhance the quality, usefulness, and clarity of the form based on the purpose for which the form was intended to be used. The “391.41 CMV Driver Medication Form, MCSA-5895,” was developed and intended to be used as a tool to supplement the information obtained from the “Medical Examination Report Form, MCSA-5875,” from the driver during the ME's review of the driver's health history, and from the physical examination conducted by the ME. The “Medical Examination Report Form, MCSA-5875,” already provides the ME with a complete health history for the driver including all current medications (prescriptions, non-prescriptions, supplements) and medical conditions as reported by the driver.

The “391.41 CMV Driver Medication Form, MCSA-5895,” specifically addresses medication(s) that may impair the driver's ability to safely operate a CMV so that the ME fully understands the reasons the medications have been prescribed and can consider the impact the medication(s) and medical conditions for which the medication(s) has been prescribed may have on the driver. This information combined with the information obtained from the “Medical Examination Report Form, MCSA-5875,” from the driver during the ME's review of the driver's health history, and from the physical examination conducted by the ME, is used by the ME when making a physical qualification determination.

The “391.41 CMV Driver Medication Form, MCSA-5895,” contains information regarding the driver's role and regulation in § 391.41(b)(12) as a reference for healthcare professionals and does not indicate that the healthcare professional must interpret the regulation. The “391.41 CMV Driver Medication Form, MCSA-5895,” clearly states what is and is not expected of the healthcare professional completing the form by requesting the healthcare professional review the regulation provided, complete the form, and return it to the ME. The form explains that the final determination as to whether the individual listed on the form is physically qualified to drive a CMV will be made by the certified ME. Question 4 was specifically intended to obtain the medical opinion of the healthcare professional completing the form regarding the specific medication(s) they have prescribed to the driver for a particular medical condition(s). It is the responsibility of the ME to use the information provided by the healthcare professional completing the “391.41 CMV Driver Medication Form, MCSA-5895,” as a tool to assist them in making a physical qualification determination.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2023-02236 Filed 2-2-23; 8:45 am]

BILLING CODE 4910-EX-P